FEDERAL RESERVE SYSTEM

Change in Bank Control Notices; Acquisitions of Shares of a Bank or Bank Holding Company

The notificants listed below have applied under the Change in Bank Control Act (12 U.S.C. 1817(j)) and § 225.41 of the Board's Regulation Y (12 CFR § 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 24, 2017.

A. Federal Reserve Bank of Minneapolis (Jacquelyn K. Brunmeier, Assistant Vice President) 90 Hennepin Avenue, Minneapolis, Minnesota 55480-0291:

1. Paul Skorheim, Sauk Centre, Minnesota, individually and as a trustee of the Minnesota National Bank Retirement Savings & Employee Stock Ownership Plan & Trust, Sauk Centre, Minnesota;, to retain 10 percent or more of the shares of Sauk Centre Financial Services, Inc., Sauk Centre, Minnesota, and thereby indirectly retain shares of Minnesota National Bank, Sauk Centre, Minnesota.

Additionally, the ESOP's trustees, Paul Skorheim, and Donald John, both of Sauk Centre, Minnesota, as members of a group acting in concert with the ESOP, to retain voting shares of SCFS, and thereby indirectly retain voting shares of Minnesota National Bank, Sauk Centre, Minnesota.

B. Federal Reserve Bank of Dallas (Robert L. Triplett III, Senior Vice President) 2200 North Pearl Street, Dallas, Texas 75201-2272:

1. James R. Cole, Jr., Natchitoches, Louisiana; individually and as trustee of the James R. Cole, Sr. Family Trust; Elizabeth Cole, Natchitoches, Louisiana, as trustee of the DALOCO Trust; and Edith Palmer, Many, Louisiana, together a group acting in concert; to retain voting shares of Sabine Bancshares, Inc., Many, Louisiana, and indirectly retain shares of Sabine State Bank and Trust Company, Many, Louisiana.

Board of Governors of the Federal Reserve System, May 4, 2017.
Yao-Chin Chao,
Assistant Secretary of the Board.

[FR Doc. 2017-09357 Filed 5-8-17; 8:45 am]

BILLING CODE 6210-01-P